GENERAL SERVICES ADMINISTRATION

41 CFR Chapter 301

[FTR Amendment 99]

RIN 3090-AH51

Federal Travel Regulation; Maximum Per Diem Rates

AGENCY: Office of Governmentwide Policy, GSA.

ACTION: Final rule.

SUMMARY: This final rule amends the Federal Travel Regulation (FTR), Amendment 97, published in the Federal Register of Friday, August 31, 2001. This final rule updates the table of prescribed maximum per diem rates for the continental United States (CONUS) by revising previous entries and adding new entries.

EFFECTIVE DATE: October 1, 2001.

FOR FURTHER INFORMATION CONTACT: Joddy P. Garner, Office of Governmentwide Policy (MTT), Washington, DC 20405, telephone 202-501-4857.

SUPPLEMENTARY INFORMATION:

A. Background

The General Services Administration (GSA), after an analysis of additional data, is revising previous entries and adding new entries that were inadvertently omitted from FTR Amendment 97 published as Part II in the Federal Register of Friday, August 31, 2001 (66 FR 46070). This final rule revises the key city for Pontiac/Troy, Michigan, and the county and/or other defined locations for Denver, Colorado; Anoka County, Minnesota; Harrisburg and Hershey, Pennsylvania; and Sturgis, South Dakota. This final rule further adds new per diem city/county localities and rates for Dinwiddie County, Hopewell, Petersburg, and Prince George County, Virginia. In addition, this final rule revises footnote four (4) of the per diem rate table.

B. Executive Order 12866

GSA has determined that this final rule is not a significant regulatory action for the purposes of Executive Order 12866 of September 30, 1993.

C. Regulatory Flexibility Act

This final rule is not required to be published in the Federal Register for notice and comment; therefore, the Regulatory Flexibility Act, 5 U.S.C. 601 et seq., does not apply.

D. Paperwork Reduction Act

The Paperwork Reduction Act does not apply because this final rule does not impose recordkeeping or information collection requirements, or the collection of information from offerors, contractors, or members of the public which require the approval of the Office of Management and Budget under 44 U.S.C. 501 et seq.

E. Small Business Regulatory Enforcement Fairness Act

This final rule is also exempt from congressional review prescribed under 5 U.S.C. 801 since it relates solely to agency management and personnel.

List of Subjects in 41 CFR Chapter 301

Government employees, Travel and transportation expenses.

For the reasons set forth in the preamble, under 5 U.S.C. 5701-5709, 41 CFR chapter 301 is amended as follows:

CHAPTER 301—Temporary Duty (TDY) Travel Allowances

Appendix A to Chapter 301 [Amended]

1. Appendix A to chapter 301 is amended as follows:

a. On the page that includes entries for the State of Colorado, under the State of Colorado, city of Denver, column two (County and/or other defined location) is revised to read “Denver, Adams, and Arapahoe Counties, that portion of Westminster located in Jefferson County, and Lone Tree in Douglas County”.

b. On the page that includes entries for the States of Massachusetts and Michigan, under the State of Michigan, in the first column, the last entry, “Pontiac/Troy”, is revised to read “Pontiac/Troy/Auburn Hills”.

c. On the page that includes entries for the State of Michigan and Minnesota:

i. Under the State of Michigan, the entry for “Auburn Hills” is removed.

ii. Under the State of Minnesota, city of Anoka County, column two (County and/or other defined location) is revised to read “Anoka”.

d. On the page that includes entries for the State of Pennsylvania:

i. Under the State of Pennsylvania, city of Harrisburg, column two (County and/or other defined location) is revised to read “Dauphin (except Hershey)”.

ii. Under the State of Pennsylvania, city of Hershey, column two (County and/or other defined location) is revised to read “City limits of Hershey (see Dauphin County)”.

e. On the page that includes entries for the State of South Dakota, city of Sturgis, column two (County and/or other defined location) is revised to read “Meade”.

f. On the page beginning with the entry for Colonial Heights, Virginia:

i. Under the State of Virginia, a new entry is added after the city of Colonial Heights, to read: (column one) “Dinwiddie County”; (column two) “Dinwiddie”; (column three) “77”; (column four) “30”; (column five) “107”.

ii. Under the State of Virginia, a new entry is added after the new entry for Dinwiddie County, to read: (column one) “Hopewell”; (column three) “77”; (column four)”30”; (column five) “107”.

iii. Under the State of Virginia, a new entry is added after the city of Manassas/Woodbridge, to read: (column one) “Petersburg”; (column three) “77”; (column four) “30”; (column five) “107”.

iv. Under the State of Virginia, a new entry is added after the new entry for Petersburg, to read: (column one) “Prince George County”; (column two) “Prince George”, (column three) “77”; (column four)“30”; (column five) “107”.

g. Note four at the end of the table is revised.

The revised pages containing the amendments to the table set forth above and a new page containing the notes to the table as amended above read as follows:

Appendix A to Chapter 301—Prescribed Maximum Per Diem Rates for CONUS

* * * * *

BILLING CODE 6820-14-P

* * * * *

Dated: December 14, 2001.
Stephen A. Perry,
Administrator of General Services.

[FR Doc. 01-31776 Filed 12-26-01; 8:45 am]

BILLING CODE 6820-14-C